DEPARTMENT OF ENERGY

Federal Energy Regulatory Commission

[Docket No. RD18-7-000]

Commission Information Collection Activities (FERC-725R); Comment Request; Revision

AGENCY: Federal Energy Regulatory Commission.

ACTION: Comment request.

SUMMARY: In compliance with the requirements of the Paperwork Reduction Act of 1995, the Federal Energy Regulatory Commission (Commission or FERC) is submitting its information collection FERC-725R (Mandatory Reliability Standards: BAL Reliability Standards) to the Office of Management and Budget (OMB) for review of the information collection requirements. Any interested person may file comments with the Commission as explained below.

The North American Electric Reliability Corporation submitted a petition (on August 17, 2018) requesting Commission approval of proposed Reliability Standard BAL-002-3 and the retirement of currently effective Reliability Standard BAL-002-2. On August 24, 2018, the Commission issued a Notice in the Federal Register requesting public comment on the petition and proposed changes (which would affect the FERC-725R) The Commission received no comments and is making this notation in its submittal of the FERC-725R to OMB.

DATES: Comments on the collection of information are due by December 10, 2018.

ADDRESSES: Comments should be sent to the Commission, in Docket No. RD18-7-000 by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725R, Mandatory Reliability Standards: BAL Reliability Standards.

OMB Control No.: 1902-0268.

Type of Request: Revision to FERC-725R information collection requirements, as discussed in Docket No. RD18-7-000.

Abstract: On August 17, 2018, the North American Electric Reliability Corporation (NERC) filed a petition seeking approval of proposed Reliability Standard BAL-002-3 (Disturbance Control Standard—Contingency Reserve for Recovery from a Balancing Contingency Event) and the retirement of currently-effective Reliability Standard BAL-002-2. NERC submitted proposed Reliability Standard BAL-002-3 in response to the Commission's directive in Order No. 835 to develop modifications to Reliability Standard BAL-002-2, Requirement R1 to require balancing authorities or reserve sharing groups: (1) To notify the reliability coordinator of the conditions set forth in Requirement R1, Part 1.3.1 preventing it from complying with the 15-minute ACE recovery period; and (2) to provide the reliability coordinator with its ACE recovery plan, including a target recovery time.¹ The NERC petition states “the proposed modifications to Reliability Standard BAL-002-3 also intend to clarify that communication with the reliability coordinator (RC) should proceed in accordance with Energy Emergency Alert procedures within the EOP Reliability Standards.² This communication is done under the currently-effective Reliability Standard BAL-002-2. The communications (and related burden) are already required, and the additional information is de minimis. Therefore the Commission is not modifying the burden estimate and is submitting this to OMB as non-material or non-substantive change to a currently approved collection.

¹ Disturbance Control Standard—Contingency Reserve for Recovery from a Balancing Contingency Event Reliability Standard, Order No. 835, 158 FERC ¶ 61,030, at P 37 (2017).

² NERC Petition at 3.

The Office of Electric Reliability approved the NERC proposal in a Delegated Order on September 25, 2018.

Type of Respondents: Balancing authorities and reserve sharing groups.

Estimate of Annual Burden ³: According to the NERC Compliance Registry as of 8/24/2018, there are 99 balancing authorities in the United States. The Commission bases individual burden estimates on the time needed for balancing authorities to develop tools needed to facilitate reporting that are required in the Reliability Standard. These burden estimates are consistent with estimates for similar tasks in other Commission-approved Reliability Standards.

³ Burden is defined as the total time, effort, or financial resources expended by persons to generate, maintain, retain, or disclose or provide information to or for a Federal agency. For further explanation of information collection burden, refer to 5 Code of Federal Regulations 1320.3.

⁴ Reliability Standard BAL-002-2 applies to balancing authorities and reserve sharing groups. However, the burden associated with the balancing authorities complying with Requirements R1 and R3 is not included in this table because that burden doesn't change and the Commission already accounted for it under Commission-approved Reliability Standard BAL-002-1.

⁵ The estimated hourly cost (wages plus benefits) is based on Bureau of Labor Statistics (BLS) information (available at http://www.bls.gov/oes/current/naics2_22.htm and, for benefits, https://www.bls.gov/news.release/ecec.nr0.htm). The hourly cost (wages plus benefits) for developing and maintaining operating process and plans is $105.29 and is an average for an electrical engineer (Occupation code 17-2071, $66.90/hour) and Legal (Occupation code 23-0000, $ $143.68). The hourly cost (wages plus benefits) for record retention is $39.68 for information and record clerks (Occupation code 43-4199).

⁶ BA = Balancing Authority; RSG = Reserve Sharing Group.

⁷ This figure of 8 hours/response is an average of the hourly burden per response for Years 1-3. Year 1 burden: 12 hours per response; Years 2-3, each: 6 hours/response. The average annual burden for Years 1-3 is 8 hours/response (or [12 hours + 6 hours + 6 hours] ÷ 3).

FERC-725R, As Modified by RM16-7-000 Final Rule (BAL-002-2: Disturbance Control Standard—Contingency Reserve for Recovery From a Balancing Contingency Event) 4 5
| Number of respondents | Annual number of responses per respondent | Total number of responses | Average burden hours & cost per response ($) | Total annual burden hours & total annual cost ($) (rounded) | Cost per respondent ($)
| (1) | (2) | (1) * (2) = (3) | (4) | (3) * (4) = (5) | (5) ÷ (1)
BA/RSG: ⁶ Develop and Maintain annually, Operating Process and Operating Plans | 99 | 1 | 99 | 8 ⁷ hrs.; $842.32 | 792 hrs.; $83,390 | $842.32
BA/RSG: Record Retention | 99 | 1 | 99 | 4 hrs.; $158.72 | 396 hrs.; $15,713 | 158.72
TOTAL |  |  | 198 |  | 1,188 hrs.; $99,103 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 28, 2018.
Kimberly D. Bose,
Secretary.

[FR Doc. 2018-21777 Filed 10-5-18; 8:45 am]

BILLING CODE 6717-01-P